FEDERAL EMERGENCY MANAGEMENT AGENCY

44 CFR Part 65

[Docket No. FEMA-7312]

Changes in Flood Elevation Determinations

AGENCY: Federal Emergency Management Agency (FEMA).

ACTION: Interim rule.

SUMMARY: This interim rule lists communities where modification of the base (1% annual chance) flood elevations is appropriate because of new scientific or technical data. New flood insurance premium rates will be calculated from the modified base flood elevations for new buildings and their contents.

DATES: These modified base flood elevations are currently in effect on the dates listed in the table and revise the Flood Insurance Rate Map(s) in effect prior to this determination for each listed community.

From the date of the second publication of these changes in a newspaper of local circulation, any person has ninety (90) days in which to request through the community that the Associate Director for Mitigation reconsider the changes. The modified elevations may be changed during the 90-day period.

ADDRESSES: The modified base flood elevations for each community are available for inspection at the office of the Chief Executive Officer of each community. The respective addresses are listed in the following table.

FOR FURTHER INFORMATION CONTACT: Matthew B. Miller, P.E., Chief, Hazards Study Branch, Mitigation Directorate, 500 C Street SW., Washington, DC 20472, (202) 646-3461, or (e-mail) matt.miller@fema.gov.

SUPPLEMENTARY INFORMATION: The modified base flood elevations are not listed for each community in this interim rule. However, the address of the Chief Executive Officer of the community where the modified base flood elevation determinations are available for inspection is provided.

Any request for reconsideration must be based upon knowledge of changed conditions, or upon new scientific or technical data.

The modifications are made pursuant to Section 201 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State, or regional entities.

The changes in base flood elevations are in accordance with 44 CFR 65.4.

National Environmental Policy Act

This rule is categorically excluded from the requirements of 44 CFR Part 10, Environmental Consideration. No environmental impact assessment has been prepared.

Regulatory Flexibility Act

The Associate Director for Mitigation certifies that this rule is exempt from the requirements of the Regulatory Flexibility Act because modified base flood elevations are required by the Flood Disaster Protection Act of 1973, 42 U.S.C. 4105, and are required to maintain community eligibility in the NFIP. No regulatory flexibility analysis has been prepared.

Regulatory Classification.

This interim rule is not a significant regulatory action under the criteria of Section 3(f) of Executive Order 12866 of September 30, 1993, Regulatory Planning and Review, 58 FR 51735.

Executive Order 12612, Federalism.

This rule involves no policies that have federalism implications under Executive Order 12612, Federalism, dated October 26, 1987.

Executive Order 12778, Civil Justice Reform.

This rule meets the applicable standards of Section 2(b)(2) of Executive Order 12778.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Arizona:
Cochise | Unincorporated Areas | November 10, 1999, November 17, 1999, Arizona Range News | The Honorable Mike Palmer, Chairman, Cochise County Board of Supervisors, 1415 West Melody Lane, Building B, Bisbee, Arizona 85603 | February 15, 2000 | 040012
Maricopa | Town of Gilbert | October 20, 1999, October 27, 1999, The Tribune Newspapers | The Honorable Cynthia Dunham, Mayor, Town of Gilbert, 1025 South Gilbert Road, Gilbert, Arizona 85296 | September 28, 1999 | 040044
Graham | Unincorporated Areas | November 10, 1999, November 17, 1999, Eastern Arizona Courier | The Honorable Lynn Skinner, Chairman, Graham County Board of Supervisors, 921 Thatcher Boulevard, Safford, Arizona 85546 | February 15, 2000 | 040032
Pima | Town of Marana | October 8, 1999, October 15, 1999, Arizona Daily Star | The Honorable Ora Mae Harn, Mayor, Town of Marana, 13251 North Lon Adams Road, Marana, Arizona 85653 | August 31, 1999 | 040118
Maricopa | Unincorporated Areas | October 20, 1999, October 27, 1999, Arizona Republic | The Honorable Fulton Brock, Chairman, Maricopa County, Board of Supervisors, 301 West Jefferson, 10th Floor, Phoenix, Arizona 85003 | September 28, 1999 | 040037
Maricopa | Unincorporated Areas | November 12, 1999, November 19, 1999, Arizona Republic | The Honorable Fulton Brock, Chairman, Maricopa County Board of Supervisors, 301 West Jefferson, 10th Floor, Phoenix, Arizona 85003 | February 17, 2000 | 040037
Maricopa | City of Mesa | October 20, 1999, October 27, 1999, Mesa Tribune | The Honorable Wayne Brown, Mayor, City of Mesa, P.O. Box 1466, Mesa, Arizona 85211-1466 | September 28, 1999 | 040048
Pima | Unincorporated Areas | October 8, 1999, October 15, 1999, The Arizona Daily Star | The Honorable Sharon Bronson, Chairperson, Pima County Board of Supervisors, 130 West Congress, 11th Floor, Tucson, Arizona 85701 | August 31, 1999 | 040073
Pima | Unincorporated Areas | November 10, 1999, November 17, 1999, The Arizona Daily Star | The Honorable Sharon Bronson, Chairperson, Pima County Board of Supervisors, 130 West Congress, 11th Floor, Tucson, Arizona 85701 | October 1, 1999 | 040073
Maricopa | Town of Queen Creek | October 20, 1999, October 27, 1999, Arizona Republic | The Honorable Mark Schnepf, Mayor, Town of Queen Creek, 22350 South Ellsworth Road, Queen Creek, Arizona 85242 | September 28, 1999 | 040132
Pima | Town of Sahuarita | November 10, 1999, November 17, 1999, Green Valley News & Sun | The Honorable Gordon Van Camp, Mayor, Town of Sahuarita, P.O. Box 879, Sahuarita, Arizona 85629 | October 1, 1999 | 040173
Santa Cruz | Unincorporated Areas | October 19, 1999, October 21, 1999, Nogales International | The Honorable Robert Damon, Chairperson, Santa Cruz County Board of Supervisors, 2150 North Congress Drive, Nogales, Arizona 85621 | September 21, 1999 | 040090
Cochise | City of Willcox | November 10, 1999, November 17, 1999, Arizona Range News | The Honorable Marlin Easthouse, Mayor, City of Willcox, 101 South Railroad Avenue, Suite B, Willcox, Arizona 85643 | February 15, 2000 | 040018
Yavapai | Unincorporated Areas | October 21, 1999, October 28, 1999, Prescott Courier | The Honorable A.G. “Chip” Davis, Chairman, Yavapai County Board of Supervisors, 10 South Sixth Street, Cottonwood, Arizona 86326 | January 26, 2000 | 040093
Arkansas:
Craighead | City of Jonesboro | October 8, 1999, October 15, 1999, The Jonesboro Sun | The Honorable Hubert Brodell, Mayor, City of Jonesboro, P.O. Box 1845, Jonesboro, Arkansas 72403-1845 | September 10, 1999 | 050048
Pulaski | City of Little Rock | November 4, 1999, November 11, 1999, Arkansas Democrat Gazette | The Honorable Jim Dailey, Mayor, City of Little Rock, City Hall, 500 West Markham Street, Room 203, Little Rock, Arkansas 72201 | September 30, 1999 | 050181
California:
Los Angeles | City of Calabasas | October 7, 1999, DOctober 14, 1999, DLos Angeles Daily News | The Honorable Robert Sibilia, Mayor, City of Calabasas, 26135 Mureau Road, Calabasas, California 91302 | September 2, 1999 | 060749
Riverside | City of Murrieta | November 16, 1999, November 23, 1999, The Californian | The Honorable Chuck Washington, Mayor, City of Murrieta, 26442 Beckman Court, Murrieta, CA 92562 | October 19, 1999 | 060751
Riverside | Unincorporated Areas | November 10, 1999, November 17, 1999, Press-Enterprise | The Honorable Roy Wilson, Chairperson, Riverside County Board of Supervisors, County Administrative Center, 4080 Lemon Street, 14th Floor, Riverside, California 92501 | October 6, 1999 | 060245
San Diego | Unincorporated Areas | November 9, 1999, November 16, 1999, San Diego Union-Tribune | The Honorable Pam Slater, Chairwoman, San Diego County Board of Supervisors, 1600 Pacific Highway, Room 335, San Diego, California 92101 | February 14, 2000 | 060284
San Deigo | City of Santee | November 9, 1999, November 16, 1999, San Diego Union-Tribune | The Honorable Jack Dale, Mayor, City of Santee, 10601 Magnolia Avenue, Santee, California 92071-1266 | February 14, 2000 | 060703
Colorado:
Arapahoe | Unincorporated Areas | November 4, 1999, November 11, 1999, The Villager | The Honorable Steve Ward, Chairman, Arapahoe County Board of Commissioners, 5334 South Prince Street, Littleton, Colorado 80166 | October 12, 1999 | 080011
Arapahoe | Unincorporated Areas | November 18, 1999, November 25, 1999, The Villager | The Honorable Steve Ward, Chairperson, Arapahoe County Board of Commissioners, 5334 South Prince Street, Littleton, Colorado 80166 | October 12, 1999 | 080011
Boulder | Unincorporated Areas | November 9, 1999, November 16, 1999, Daily Camera | The Honorable Ron Stewart, Chairman, Boulder County Board of Commissioners, P.O. Box 471, Boulder, Colorado 80306-0471 | October 5, 1999 | 080023
Boulder | City of Boulder | November 12, 1999, November 19, 1999, Daily Camera | The Honorable Robert D. Greenlee, Mayor, City of Boulder, P.O. Box 791, Boulder, Colorado 80306-0791 | October 12, 1999 | 080024
Arapahoe | Town of Columbine Valley | November 4, 1999, November 11, 1999, The Littleton Independent | The Honorable James C. McShane, Mayor, Town of Columbine Valley, 5931 South Middlefield Road, Suite 101, Columbine Valley, Colorado 80123 | October 12, 1999 | 080014
Douglas | Unincorporated Areas | November 17, 1999, November 24, 1999, Douglas County News Press | The Honorable James Sullivian, Chairperson, Douglas County Board of Commissioners, 101 Third Street, Castle Rock, Colorado 80104 | October 12, 1999 | 080049
Boulder | City of Longmont | November 9, 1999, November 16, 1999, Longmont Daily Times-Call | The Honorable Leona Stoecker, Mayor, City of Longmont, 350 Kimbark Street, Longmont, Colorado 80501 | October 5, 1999 | 080027
Hawaii:
| City and County of Honolulu | October 19, 1999, October 26, 1999, Honolulu Star Bulletin | The Honorable Jeremy Harris, Mayor, City of Honolulu, Honolulu Hali, 530 South King Street, Honolulu, Hawaii 96813 | January 24, 2000 | 150001
Kansas:
Johnson | City of Overland Park | November 5, 1999, November 12, 1999, Overland Park Sun | The Honorable Ed Eiler, Mayor, City of Overland Park, City Hall, 8500 Santa Fe Drive, Overland Park, Kansas 66212 | October 12, 1999 | 200174
Missouri:
Jefferson | City of Crystal City | October 20, 1999, October 27, 1999, Suburban Journal | The Honorable Grant Johnston, Mayor, City of Crystal City, 130 Mississippi Avenue, Crystal City, Missouri 63019 | September 28, 1999 | 290189
Clay, Platte, and Jackson | City of Kansas City | October 12, 1999, October 19, 1999, Daily Record | The Honorable Kay Barnes, Mayor, City of Kansas City, 414 East 12th Street, 29th Floor, Kansas City, Missouri 64106 | September 8, 1999 | 290173
New Mexico:
Bernalillo | City of Albuquerque | November 3, 1999, November 10, 1999, Albuquerque Journal | The Honorable Jim Baca, Mayor, City of Albuquerque, P.O. Box 1293, Albuquerque, New Mexico 87103 | September 29, 1999 | 350002
Nevada:
Clark | Unincorporated Areas | October 14, 1999, October 21, 1999, Las Vegas Review-Journal | The Honorable Bruce Woodbury, Chairperson, Clark County Board of Commissioners, 500 Grand Central Parkway, Las Vegas, Nevada 89155 | January 19, 2000 | 320003
Clark | Unincorporated Areas | October 14, 1999, October 21, 1999, Las Vegas Review-Journal | The Honorable Bruce Woodbury, Chairperson, Clark County Board of Supervisors, P.O. Box 551601, Las Vegas, Nevada 89155-1601 | September 17, 1999 | 320003
Clark | City of Henderson | October 14, 1999, October 21, 1999, Las Vegas Review-Journal | The Honorable James Gibson, Mayor, City of Henderson, 240 South Water Street, Henderson, Nevada 89015 | January 19, 2000 | 320005
Oklahoma:
Tulsa | City of Broken Arrow | October 22, 1999, October 29, 1999, Broken Arrow Ledger | The Honorable James Reynolds, Mayor, City of Broken Arrow, P.O. Box 610, Broken Arrow, Oklahoma 74013 | September 28, 1999 | 400236
Cleveland | City of Moore | October 22, 1999, October 29, 1999, Moore American | The Honorable Glenn Lewis, Mayor, City of Moore, 301 North Broadway, Moore, Oklahoma 73160 | September 24, 1999 | 400044
Texas:
Tarrant | City of Arlington | October 21, 1999, October 28, 1999, Fort Worth Star-Telegram | The Honorable Elzie Odom, Mayor, City of Arlington, P.O. Box 231, Arlington, Texas 76004-0231 | January 26, 2000 | 485454
Tarrant | City of Arlington | November 19, 1999, November 26, 1999, Fort Worth Star-Telegram | The Honorable Elzie Odom, Mayor, City of Arlington, P.O. Box 231, Arlington, Texas 76004-0231 | October 25, 1999 | 485454
Bexar | Unincorporated Areas | November 10, 1999, November 17, 1999, San Antonio Express-News | The Honorable Cyndi Taylor Krier, Bexar County Judge, Bexar County Courthouse, 100 Dolorosa, Suite 101, San Antonio, Texas 78205-3036 | October 12, 1999 | 480035
Brazos | City of College Station | November 19, 1999, November 16, 1999, Bryan and College Station Eagle | The Honorable Lynn McIlhaney, Mayor, City of College Station, P.O. Box 9960, College Station, Texas 77842-9960 | October 8, 1999 | 480083
Dallas | City of Dallas | October 12, 1999, October 19, 1999, Dallas Morning News | The Honorable Ron Kirk, Mayor, City of Dallas, City Hall, 1500 Marilla Street, Dallas, Texas 75201 | January 17, 2000 | 480171
Dallas | City of Dallas | October 14, 1999, October 21, 1999, Dallas Morning News | The Honorable Ron Kirk, Mayor, City of Dallas, City Hall, 1500 Marilla Street, Dallas, Texas 75201 | September 17, 1999 | 480171
Dallas | City of Dallas | November 16, 1999, November 23, 1999, Dallas Morning News | The Honorable Ron Kirk, Mayor, City of Dallas, City Hall, 1500 Marilla Street, Dallas, Texas 75201 | October 6, 1999 | 480171
Dallas | City of Garland | October 14, 1999, October 21, 1999, The Garland News | The Honorable Jim Spence, Mayor, City of Garland, P.O. Box 469002, Garland, Texas 75046-9002 | September 15, 1999 | 485471
Harris | Unincorporated Areas | November 3, 1999, November 10, 1999, Houston Chronicle | The Honorable Robert Eckels, Harris County Judge, 1001 Preston Street, Suite 911, Houston, Texas 77002 | September 29, 1999 | 480287
Hays | Unincorporated Areas | November 26, 1999, December 3, 1999, San Marcos Daily Record | The Honorable Eddy Etheredge, Hays County Judge, Hays County Courthouse, 111 East San Antonio Street, San Marcos, Texas 78666 | March 2, 2000 | 480321
Tarrant | City of Keller | October 6, 1999, October 13, 1999, Fort Worth Star-Telegram | The Honorable Dave Phillips, Mayor, City of Keller, P.O. Box 770, Keller, Texas 76244 | August 30, 1999 | 480602
Kendall | Unincorporated Areas | October 19, 1999, October 26, 1999, The Boerne Star | The Honorable Bill Gooden, Kendall County Judge, 201 East San Antonio Street, 120, Boerne, Texas 78006 | September 15, 1999 | 480417
Dallas | City of Lancaster | October 7, 1999, October 14, 1999, Lancaster Today | The Honorable Martha Wallace, Mayor, City of Lancaster, P.O. Box 940, Lancaster, Texas 75146-0940 | September 7, 1999 | 480182
Collin | City of Plano | October 13, 1999, October 20, 1999, Plano Star Courier | The Honorable John Longstreet, Mayor, City of Plano, P.O. Box 860358, Plano, Texas 75086-0358 | September 7, 1999 | 480140
Bexar | City of San Antonio | October 15, 1999, October 22, 1999, San Antonio Express-News | The Honorable Howard W. Peak, Mayor, City of San Antonio, P.O. Box 839966, San Antonio, Texas 78283-3966 | January 20, 2000 | 480045

(Catalog of Federal Domestic Assistance No. 83.100, “Flood Insurance.”)

Dated: January 28, 2000.
Michael J. Armstrong,
Associate Director for Mitigation.

[FR Doc. 00-2802 Filed 2-7-00; 8:45 am]

BILLING CODE 6718-04-P